DEPARTMENT OF THE TREASURY

Submission for OMB Review; Comment Request

November 24, 2014.

The Department of the Treasury will submit the following information collection requests to the Office of Management and Budget (OMB) for review and clearance in accordance with the Paperwork Reduction Act of 1995, Public Law 104-13, on or after the date of publication of this notice.

DATES: Comments should be received on or before December 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0854.

Type of Review: Revision of a currently approved collection.

Title: Section 301.7245-3, Discharge of Liens; (TD 9410).

Form: 14497, 14498.

Abstract: The Internal Revenue Service needs this information in processing a request to sell property of a tax lien at a non-judicial sale. This information will be used to determine the amount, if any, to which the tax lien attaches.

Affected Public: Private sector: Businesses or other for-profits.

Estimated Annual Burden Hours: 3,833.

OMB Number: 1545-1005.

Type of Review: Extension without change of a currently approved collection.

Title: TD 8302 Low-Income Housing Credit for Federally-Assisted Buildings.

Abstract: The rule requires the taxpayer (low-income building owner) to seek a waiver in writing from the IRS concerning low-income buildings acquired during a special 10-year period in order to avert a claim against a Federal mortgage insurance fund.

Affected Public: Private sector: Businesses or other for-profits.

Estimated Annual Burden Hours: 3,000.

OMB Number: 1545-1381.

Type of Review: Extension without change of a currently approved collection.

Title: TD 8546—Limitations on Corporate Net Operating Loss.

Abstract: This document contains final income tax regulations providing rules for allocating net operating loss or taxable income, and net capital loss or gain, within the taxable year in which a loss corporation has an ownership change under section 382 of the Internal Revenue Code of 1986. These regulations permit the loss corporation to elect to allocate these amounts between the period ending on the change date and the period beginning on the day after the change date as if its books were closed on the change date.

Affected Public: Private sector: Business or other for-profits.

Estimated Annual Burden Hours: 200.

OMB Number: 1545-1209.

Type of Review: Extension without change of a currently approved collection.

Title: Disclosure of Tax Return Information for Purposes of Quality or Peer Reviews.

Abstract: These regulations contain requirements that tax return preparers being reviewed will maintain a record of the review; include the information reviewed, and the identity of the persons conducting the review.

Affected Public: Private sector: Businesses and other for-profits.

Estimated Annual Burden Hours: 250,000.

OMB Number: 1545-1759.

Type of Review: Extension without change of a currently approved collection.

Title: Amended Quarterly Federal Excise Tax Return.

Form: 720X.

Abstract: Form 720X is used to make adjustments to correct errors on form 720 filed for previous quarters. It can be filed by itself or it can be attached to any subsequent Form 720. Code section 6416(d) allows taxpayers to take a credit on a subsequent return rather than filing a refund claim. Creation of Form 720X is the result of a project to provide a uniform standard for trust fund accounting.

Affected Public: Private sector: Businesses and other for-profits.

Estimated Annual Burden Hours: 152,460.

Dawn D. Wolfgang,
Treasury PRA Clearance Officer.

[FR Doc. 2014-28128 Filed 11-26-14; 8:45 am]

BILLING CODE 4830-01-P